COUNCIL ON ENVIRONMENTAL QUALITY

[CEQ-2023-0005]

Environmental Justice Scorecard

AGENCY: Council on Environmental Quality.

ACTION: Request for information; extension of comment period.

SUMMARY: On November 20, 2023, the Council on Environmental Quality (CEQ) published a request for information (RFI) to solicit feedback on Phase One of the Environmental Justice Scorecard, which will inform future versions of the Environmental Justice Scorecard. This notice extends the deadline for receiving responses to this RFI by an additional 30 days, until February 22, 2024.

DATES: The comment period for the RFI published November 20, 2023, at 88 FR 80697, is extended. Comments should be received by 11:59 p.m. ET on February 22, 2024.

ADDRESSES: You may submit comments, identified by docket number CEQ-2023-0005, by any of the following methods:

• Using the Federal eRulemaking Portal: visit https://www.regulations.gov and follow the instructions for submitting comments. For more information, see https://www.regulations.gov/faq.

• By fax to 202-456-6546.

• By mail to Council on Environmental Quality, 730 Jackson Place NW, Washington, DC 20503 (must be received by February 22, 2024.

Instructions: Your submission must include “Council on Environmental Quality” and the docket number for this RFI, which is CEQ-2023-0005.

CEQ will publish public comments it receives in response to this notice, including personal information, without change on https://www.regulations.gov. Please do not submit any information you consider to be private information, privileged or confidential commercial or financial information, or other information the disclosure of which is restricted by law.

Response to this RFI is voluntary. Each responding entity (individual or organization) is requested to submit only one response. Please feel free to respond to as many of the questions as you choose, indicating the number of each question that you are addressing. We encourage you to include your name and contact information, but it is not required. If you are responding on behalf of an organization, we further encourage you to include the organization's name, its type (e.g., academic, non-profit, professional society, community-based organization, industry, government, other), and your role in the organization. You may include references to academic literature or links to online material but please ensure all links are publicly available.

FOR FURTHER INFORMATION CONTACT: Kareem Ihmeidan, Staff Assistant for Environmental Justice, 202-395-5750, AbdelKareem.I.Ihmeidan@ceq.eop.gov.

SUPPLEMENTARY INFORMATION: On November 20, 2023, CEQ published an RFI in the Federal Register (88 FR 80697) to solicit feedback for CEQ and the Office of Management and Budget on Phase One of the Environmental Justice Scorecard, which will inform future versions of the Environmental Justice Scorecard. This notice extends the comment period by 30 days from the date of this notice in order to provide the public with additional time to provide feedback. Public comments should be received by 11:59 p.m. ET on February 22, 2024.

Matthew G. Lee-Ashley,
Chief of Staff.

[FR Doc. 2024-01270 Filed 1-22-24; 8:45 am]

BILLING CODE 3325-F4-P